DEPARTMENT OF ENERGY

Federal Energy Regulatory Commission

Combined Notice of Filings #1

Take notice that the Commission received the following electric corporate filings:

Docket Numbers: EC18-137-000.

Applicants: Vermont Transco LLC.

Description: Response to October 9, 2018 Deficiency Letter of Vermont Transco LLC.

Filed Date: 10/24/18.

Accession Number: 20181024-5167.

Comments Due: 5 p.m. ET 12/13/18.

Take notice that the Commission received the following exempt wholesale generator filings:

Docket Numbers: EG19-29-000.

Applicants: Crocker Wind Farm, LLC.

Description: Notice of Self-Certification of Exempt Wholesale Generator Status of Crocker Wind Farm, LLC.

Filed Date: 12/3/18.

Accession Number: 20181203-5142.

Comments Due: 5 p.m. ET 12/24/18.

Docket Numbers: EG19-30-000.

Applicants: Wheelabrator Concord Company, L.P.

Description: Self-Certification of Exempt Wholesale Generator Status of Wheelabrator Concord Company, L.P.

Filed Date: 12/3/18.

Accession Number: 20181203-5236.

Comments Due: 5 p.m. ET 12/24/18.

Docket Numbers: EG19-31-000.

Applicants: Vermillion Power, L.L.C.

Description: Self-Certification of EG or FC of Vermillion Power, L.L.C.

Filed Date: 12/3/18.

Accession Number: 20181203-5265.

Comments Due: 5 p.m. ET 12/24/18.

Take notice that the Commission received the following electric rate filings:

Docket Numbers: ER12-162-021; ER11-2044-026; ER13-1266-018; ER15-2211-015.

Applicants: Bishop Hill Energy II LLC, CalEnergy, LLC, MidAmerican Energy Company, MidAmerican Energy Services, LLC.

Description: Notice of Non-Material Change in Status of the Berkshire Hathaway Central Parties.

Filed Date: 12/3/18.

Accession Number: 20181203-5088.

Comments Due: 5 p.m. ET 12/24/18.

Docket Numbers: ER19-117-001.

Applicants: Innovative Solar 54, LLC.

Description: Tariff Amendment: amendment to 1 to be effective 12/9/2018.

Filed Date: 12/6/18.

Accession Number: 20181206-5005.

Comments Due: 5 p.m. ET 12/27/18.

Docket Numbers: ER19-118-001.

Applicants: Innovative Solar 67, LLC.

Description: Tariff Amendment: amendment to 1 to be effective 12/6/2018.

Filed Date: 12/6/18.

Accession Number: 20181206-5007.

Comments Due: 5 p.m. ET 12/27/18.

Docket Numbers: ER19-396-001.

Applicants: AES Shady Point, LLC.

Description: Tariff Amendment: AES Shady Point Errata to MBR Tariff to be effective 11/27/2018.

Filed Date: 12/6/18.

Accession Number: 20181206-5001.

Comments Due: 5 p.m. ET 12/27/18.

Docket Numbers: ER19-486-000.

Applicants: California Independent System Operator Corporation.

Description: § 205(d) Rate Filing: 2018-12-04 Mesquite Solar 5 LGIA to be effective 12/3/2018.

Filed Date: 12/4/18.

Accession Number: 20181204-5141.

Comments Due: 5 p.m. ET 12/26/18.

Docket Numbers: ER19-487-000.

Applicants: GridLiance West LLC.

Description: § 205(d) Rate Filing: GLW Certificate of Concurrence update to be effective 11/10/2018.

Filed Date: 12/4/18.

Accession Number: 20181204-5143.

Comments Due: 5 p.m. ET 12/26/18.

Docket Numbers: ER19-488-000.

Applicants: Idaho Power Company.

Description: § 205(d) Rate Filing: Housekeeping Clarifications and Revisions to OATT to be effective 2/4/2019.

Filed Date: 12/6/18.

Accession Number: 20181206-5000.

Comments Due: 5 p.m. ET 12/27/18.

Docket Numbers: ER19-489-000.

Applicants: South Carolina Electric & Gas Company.

Description: § 205(d) Rate Filing: McCormick CPW NITSA to be effective 1/1/2019.

Filed Date: 12/6/18.

Accession Number: 20181206-5002.

Comments Due: 5 p.m. ET 12/27/18.

Docket Numbers: ER19-490-000.

Applicants: PacifiCorp.

Description: § 205(d) Rate Filing: BPA Agmt to Replace BPA CB 1L1 at Malin to be effective 2/4/2019.

Filed Date: 12/6/18.

Accession Number: 20181206-5003.

Comments Due: 5 p.m. ET 12/27/18.

Docket Numbers: ER19-491-000.

Applicants: Midcontinent Independent System Operator, Inc., Otter Tail Power Company.

Description: § 205(d) Rate Filing: 2018-12-06_SA 3020 OTP-OTP 1st Revised E&P (J510) to be effective 11/27/2018.

Filed Date: 12/6/18.

Accession Number: 20181206-5032.

Comments Due: 5 p.m. ET 12/27/18.

Docket Numbers: ER19-492-000.

Applicants: PJM Interconnection, L.L.C.

Description: Tariff Cancellation: Notice of Cancellation of SA No. 4795; Queue No. AC2-139 to be effective 1/11/2019.

Filed Date: 12/6/18.

Accession Number: 20181206-5067.

Comments Due: 5 p.m. ET 12/27/18.

Docket Numbers: ER19-493-000.

Applicants: Midcontinent Independent System Operator, Inc., Otter Tail Power Company.

Description: § 205(d) Rate Filing: 2018-12-06_SA 3219 Flying Cow Wind-OTP E&P (J493 J510) to be effective 12/1/2018.

Filed Date: 12/6/18.

Accession Number: 20181206-5120.

Comments Due: 5 p.m. ET 12/27/18.

Docket Numbers: ER19-494-000.

Applicants: Southwest Power Pool, Inc.

Description: § 205(d) Rate Filing: 1628R14 Western Farmers Electric Cooperative NITSA NOA to be effective 12/1/2018.

Filed Date: 12/6/18.

Accession Number: 20181206-5146.

Comments Due: 5 p.m. ET 12/27/18.

Docket Numbers: ER19-495-000.

Applicants: PJM Interconnection, L.L.C.

Description: Tariff Cancellation: Notice of Cancellation of SA No. 4732; Queue No. AC1-202 to be effective 1/11/2019.

Filed Date: 12/6/18.

Accession Number: 20181206-5153.

Comments Due: 5 p.m. ET 12/27/18.

Docket Numbers: ER19-496-000.

Applicants: Southern California Edison Company.

Description: § 205(d) Rate Filing: LGIA Rabbitbrush Solar Project SA No. 214 to be effective 2/5/2019.

Filed Date: 12/6/18.

Accession Number: 20181206-5163.

Comments Due: 5 p.m. ET 12/27/18.

Docket Numbers: ER19-497-000.

Applicants: PJM Interconnection, L.L.C.

Description: § 205(d) Rate Filing: Amendment to WMPA, Service Agreement No. 4054, Queue No. Z2-030 to be effective 11/25/2014.

Filed Date: 12/6/18.

Accession Number: 20181206-5175.

Comments Due: 5 p.m. ET 12/27/18.

Docket Numbers: ER19-498-000.

Applicants: California Independent System Operator Corporation.

Description: Tariff Cancellation: 2018-12-06 Notice of Cancellation EIM Implementation Agreement with Puget Sound to be effective 2/5/2019.

Filed Date: 12/6/18.

Accession Number: 20181206-5229.

Comments Due: 5 p.m. ET 12/27/18.

Docket Numbers: ER19-499-000.

Applicants: PacifiCorp.

Description: § 205(d) Rate Filing: Invenergy Solar E&P Agreement to be effective 11/19/2018.

Filed Date: 12/6/18.

Accession Number: 20181206-5230.

Comments Due: 5 p.m. ET 12/27/18.

Docket Numbers: ER19-500-000.

Applicants: Baltimore Gas and Electric Company, PJM Interconnection, L.L.C.

Description: eTariff filing per 1450: BGE submits revisions to OATT, Att. H-2A re: Tax Cuts and Jobs Act in EL18-64 to be effective 10/1/2018.

Filed Date: 12/6/18.

Accession Number: 20181206-5232.

Comments Due: 5 p.m. ET 12/27/18.

Docket Numbers: ER19-501-000.

Applicants: California Independent System Operator Corporation.

Description: Tariff Cancellation: 2018-12-06 Notice of Cancellation EIM Implement. Agrmnt.—Arizona Public Service to be effective 2/5/2019.

Filed Date: 12/6/18.

Accession Number: 20181206-5233.

Comments Due: 5 p.m. ET 12/27/18.

Docket Numbers: ER19-502-000.

Applicants: Alabama Power Company.

Description: § 205(d) Rate Filing: Sempra Solar Development (Timberland Solar) LGIA Filing to be effective 11/28/2018.

Filed Date: 12/6/18.

Accession Number: 20181206-5234.

Comments Due: 5 p.m. ET 12/27/18.

Docket Numbers: ER19-503-000.

Applicants: Pacific Gas and Electric Company.

Description: Tariff Cancellation: Notice of Termination of Proxima Solar E&P Agreement to be effective 12/3/2018.

Filed Date: 12/6/18.

Accession Number: 20181206-5237.

Comments Due: 5 p.m. ET 12/27/18.

Docket Numbers: ER19-504-000.

Applicants: Southern California Edison Company.

Description: Tariff Cancellation: Notice of Cancellation Distribution Service Agreement Decade Energy, LLC to be effective 11/27/2017.

Filed Date: 12/6/18.

Accession Number: 20181206-5251.

Comments Due: 5 p.m. ET 12/27/18.

Docket Numbers: ER19-506-000.

Applicants: PJM Interconnection, L.L.C.

Description: § 205(d) Rate Filing: Amendment to ISA No. 3198; Queue No. T157 to be effective 1/16/2012.

Filed Date: 12/6/18.

Accession Number: 20181206-5269.

Comments Due: 5 p.m. ET 12/27/18.

Docket Numbers: ER19-507-000.

Applicants: Midcontinent Independent System Operator, Inc.

Description: § 205(d) Rate Filing: 2018-12-06_Revisions to Attachment FF re Cure Period for Recertification to be effective 2/6/2019.

Filed Date: 12/6/18.

Accession Number: 20181206-5280.

Comments Due: 5 p.m. ET 12/27/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2018.
Nathaniel J. Davis, Sr.,
Deputy Secretary.

[FR Doc. 2018-26892 Filed 12-11-18; 8:45 am]

BILLING CODE 6717-01-P